DEPARTMENT OF COMMERCE

National Oceanic and Atmospheric Administration

[I.D. 030507C]

Marine Mammals; File No. 373-1868

AGENCY: National Marine Fisheries Service (NMFS), National Oceanic and Atmospheric Administration (NOAA), Commerce.

ACTION: Notice; issuance of permit.

SUMMARY: Notice is hereby given that the Point Reyes Bird Observatory (PRBO) Conservation Science (Dr. William J. Sydeman, Responsible Party), 3820 Cypress Drive, # 11 Petaluma, CA 94954 has been issued a permit to conduct scientific research on pinnipeds in California.

ADDRESSES: The permit and related documents are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Jaclyn Daly or Amy Sloan, (301)713-2289.

SUPPLEMENTARY INFORMATION: On November 6, 2006, notice was published in the Federal Register (71 FR 64943) that a request for a scientific research permit to take harbor seals (Phoca vitulina richardsi), northern elephant seals (Mirounga angustirostris), California sea lions (Zalophus californianus), and northern fur seals (Callorhinus ursinus) had been submitted by the above-named organization. The requested permit has been issued under the authority of the Marine Mammal Protection Act of 1972, as amended (16 U.S.C. 1361 et seq.) and the regulations governing the taking and importing of marine mammals (50 CFR part 216).

A permit has been issued to PRBO to conduct scientific research on pinnipeds. A maximum of 300 harbor seals and 3,050 elephant seals will be captured or handled per year over a five year period, and an estimated 300 elephant seals, 5,150 harbor seals, 600 California sea lions, and five northern fur seals per year will be incidentally disturbed during pinniped research operations.

In compliance with the National Environmental Policy Act of 1969 (42 U.S.C. 4321 et seq.), a final determination has been made that the activity proposed is categorically excluded from the requirement to prepare an environmental assessment or environmental impact statement.

Dated: April 4, 2007.
P. Michael Payne,
Chief, Permits, Conservation and Education Division, Office of Protected Resources, National Marine Fisheries Service.

[FR Doc. E7-6755 Filed 4-9-07; 8:45 am]

BILLING CODE 3510-22-S